DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Evaluation of Whole-Body Detector Response of Virtual Gamma-Ray System—Administered Radioactive Material.

Form Number(s): None.

OMB Approval Number: None.

Type of Request: Regular submission.

Burden Hours: 5.

Number of Respondents: 50.

Average Hours Per Response: 6 minutes.

Needs and Uses: This collection of information is necessary to allow Investigators to make the appropriate corrections to relate the radioactivity measured to the content in the volunteer at the time of the measurement. The project will evaluate the system's response to a variety of body geometries, and relate the system's response to handheld in vivo gamma-ray detectors readings that would be used during radiological emergency response. Physical parameters of the volunteers such as height, weight will be needed to assess the correlation with counting response that is expected to have uncertainties as large as 50 percent. It is an objective of the project to provide guidance to the radiological consequence management community to better be able to estimate internal contamination of exposed people, and make decisions of their care.

Affected Public: Federal government, and individual or households.

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, Fax number (202) 395-5806 or via the Internet at Jasmeet_K._Seehra@omb.eop.gov.

Dated: May 1, 2007.
Gwellnar Banks,
Management Analyst, Office of the Chief Information Officer.

[FR Doc. E7-8631 Filed 5-4-07; 8:45 am]

BILLING CODE 3510-13-P